DEPARTMENT OF COMMERCE

National Oceanic and Atmospheric Administration

[I.D. 013007A]

Atlantic Highly Migratory Species; Meeting of the Atlantic Highly Migratory Species Advisory Panel

AGENCY: National Marine Fisheries Service (NMFS), National Oceanic and Atmospheric Administration (NOAA), Commerce.

ACTION: Notice of public meeting and a scoping meeting.

SUMMARY: NMFS will hold a three-day Highly Migratory Species (HMS) Advisory Panel (AP) meeting in March 2007. The intent of the meeting is to consider options for the conservation and management of Atlantic HMS. A scoping meeting will also be held during the AP meeting to consider options for updating HMS essential fish habitat (EFH). Both meetings are open to the public.

DATES: The AP meeting will be held from 1 p.m. to 5 p.m. on Tuesday, March 13, 2007, from 8 a.m. to 5 p.m. on Wednesday, March 14, 2007, and from 8 a.m. to 5 p.m. on Thursday, March 15, 2007. The EFH scoping meeting will be held during the AP meeting.

ADDRESSES: The meeting will be held at the Crowne Plaza Hotel, 8777 Georgia Avenue, Silver Spring, MD 20910; phone: 1-301-589-0800.

FOR FURTHER INFORMATION CONTACT: Carol Douglas or Chris Rilling at 301-713-2347.

SUPPLEMENTARY INFORMATION: The Magnuson-Stevens Fishery Conservation and Management Act (Magnuson-Stevens Act), 16 U.S.C. 1801 et seq., as amended by the Sustainable Fisheries Act, Public Law 104-297, provided for the establishment of an AP to assist in the collection and evaluation of information relevant to the development of any Fishery Management Plan (FMP) for HMS. NMFS consults with and considers the comments and views of AP members when preparing and implementing FMPs or FMP amendments for Atlantic tunas, swordfish, billfish, and sharks. The AP has previously consulted with NMFS on: the HMS FMP (April 1999), Amendment 1 to the HMS FMP (December 2003), Amendment 1 to the Billfish FMP (April 1999), and the Consolidated Atlantic HMS FMP (February and October 2006). The March 2007 AP meeting will focus on conservation and management options for Atlantic tunas, swordfish, billfish, and sharks.

NMFS published a notice of intent to prepare an environmental impact statement and potentially amend HMS EFH regulations on November 7, 2006 (71 FR 65087). NMFS will hold a scoping meeting during the March 13-15 AP meeting to discuss options for updating EFH.

Special Accommodations

This meeting is physically accessible to people with disabilities. Requests for sign language interpretation or other auxiliary aids should be directed to Carol Douglas at (301) 713-2347, at least 7 days prior to the meeting.

Authority: 16 U.S.C. 971 et seq. and 1801 et seq.

Dated: February 13, 2007.
James P. Burgess,
Acting Director, Office of Sustainable Fisheries, National Marine Fisheries Service.

[FR Doc. E7-2892 Filed 2-20-07; 8:45 am]

BILLING CODE 3510-22-S